DEPARTMENT OF ENERGY

10 CFR Part 1044

RIN 1992-AA26

Office of Security and Emergency Operations; Security Requirements for Protected Disclosures Under Section 3164 of the National Defense Authorization Act for Fiscal Year 2000

AGENCY: Department of Energy (DOE).

ACTION: Interim final rule; completion of regulatory review.

SUMMARY: In accordance with the memorandum of January 20, 2001, from the Assistant to the President and Chief of Staff, entitled “Regulatory Review Plan,” published in the Federal Register on January 24, 2001 (66 FR 7702), DOE temporarily delayed for 60 days (66 FR 8747, February 2, 2001) the effective date of the interim final rule entitled “Security Requirements for Protected Disclosures Under Section 3164 of the National Defense Authorization Act for Fiscal Year 2000” published in the Federal Register on January 18, 2001 (66 FR 4639). DOE has now completed its review of that regulation, and does not intend to initiate any further rulemaking action to modify its provisions. However, based on a written comment received on the interim final rule, DOE may make minor, non-substantive changes to the rule. DOE will announce any such changes in the notice of final rulemaking that will be published in the Federal Register.

DATES: The effective date of the interim final rule amending 10 CFR part 1044 published at 66 FR 4639, January 18, 2001, and delayed at 66 FR 8747, February 2, 2001, is confirmed as April 23, 2001.

FOR FURTHER INFORMATION CONTACT: Geralyn Praskievcz, Office of Security and Emergency Operations, (202) 586-4451, geralyn.praskievcz@hq.doe.gov.

Issued in Washington, DC on May 3, 2001.
Spencer Abraham,
Secretary of Energy.

[FR Doc. 01-11809 Filed 5-9-01; 8:45 am]

BILLING CODE 6450-01-P